DEPARTMENT OF HEALTH AND HUMAN SERVICES

Substance Abuse and Mental Health Services Administration

Funding Opportunity Title: National Training and Technical Assistance Center for Child and Adolescent Mental Health Cooperative Agreement (Short Title: NTTAC)

Announcement Type: Initial.

Funding Opportunity Number: SM 04-002.

Catalog of Federal Domestic Assistance (CFDA) Number: 93.243.

Due Date for Applications: May 21, 2004.

Note: Letters from State Single Point of Contact (SPOC) in response to E.O. 12372 are due July 20, 2004.

SUMMARY: The Substance Abuse and Mental Health Services Administration (SAMHSA), Center for Mental Health Services (CMHS) announces the availability of FY 2004 funds for a National Training and Technical Assistance Center for Child and Adolescent Mental Health (NTTAC) Cooperative Agreement. A synopsis of this funding opportunity, as well as many other Federal Government funding opportunities, is also available at the Internet site: http://www.grants.gov.

For complete instructions, potential applicants must obtain a copy of SAMHSA's standard Infrastructure Grants Program Announcement (INF-04 PA [MOD]), and the PHS 5161-1 (Rev. 7/00) application form before preparing and submitting an application. The INF-04 PA (MOD) describes the general program design and provides instructions for applying for all SAMHSA Infrastructure Grants, including the NTTAC Cooperative Agreement. Additional instructions and specific requirements to the National Training and Technical Assistance Center for Child and Adolescent Mental Health Cooperative Agreement are described below.

I. Funding Opportunity Description

Authority: Section 520 A of the Public Health Service Act, as amended and subject to the availability of funds.

The National Training and Technical Assistance Center for Child and Adolescent Mental Health (NTTAC) Cooperative Agreement is one of SAMHSA's Infrastructure Grants. SAMHSA's Infrastructure Grants provide funds to increase the capacity of mental health and/or substance abuse service systems to support programs and services. The NTTAC is a crucial link in CMHS's ongoing efforts to implement the President's New Freedom Commission on Mental Health Report. Therefore, activities carried out under this announcement must be focused on strengthening the capacity of States and communities to transform their mental health system to meet the complex needs of children and youth with, or at risk for, serious emotional disturbances and/or co-occurring substance abuse and mental health disorders and their families, within home- and community-based settings.

The NTTAC will serve as a national resource and training center to promote the planning and development of child and family-centered, culturally competent, and coordinated systems of care for children and adolescents with, or at risk for, a serious emotional disturbance and their families. The NTTAC will provide access to information and expertise on systems of care development, implementation, and policy issues through a variety of knowledge distribution approaches and technologies. Priority areas of focus will include: State planning and policy development to implement family-driven, comprehensive systems of care across child-serving systems; family and youth-centered care planning; financing strategies in public and private sectors; data management and accountability; workforce and leadership development; evidence-based practice; early intervention including screening and assessment; integration of care with primary health, child-care, schools, child welfare, juvenile justice, and substance abuse; cultural, racial, and geographic disparities; and technology coordination and dissemination. NTTAC will provide targeted technical assistance to State and local child-serving agencies, Indian tribes and tribal organizations, Pacific Island jurisdictions to provide support for integrated, responsive mental health delivery systems for children, adolescents and their families (with families being broadly defined to include a variety of caretakers such as grandparents and extended kinship relationships). These activities will serve to implement the following goals set out by the President's New Freedom Commission Report: create a comprehensive state mental health plan; promote the mental health of young children; advance evidence-based practices using dissemination and demonstration projects and create a public-private partnership to guide their implementation; improve and expand the workforce providing evidence-based mental health services and supports; develop and implement integrated electronic health record and personal health information systems; create individualized plans of care for children and their families; address cultural, racial, and geographic disparities; and promote early mental health screening, assessment and referral.

Background: The NTTAC will serve a key role in furthering Federal efforts begun over 15 years ago, and now reiterated in the President's New Freedom Commission Report, to promote the development of more accessible and appropriate home and community-based mental health and mental health service delivery systems for children, adolescents, and their families. Significant advances have been achieved in understanding and in communicating what comprises an effective network of services and supports. Outcome data on systems of care continue to show the system of care model decreases use of inpatient care, increases school attendance and performance, and decreases contacts with the juvenile justice system. Several States have adopted statutes mandating this kind of approach to treatment for children and adolescents with serious emotional disturbances and their families.

II. Award Information

1. Estimated Funding Available/Number of Awards: It is expected that up to a total of $3.45 million will be available to fund one NTTAC award in FY 2004. Of this total amount, approximately $250,000 is included to provide technical assistance for state capacity building to programs funded under the Child and Adolescent Mental Health and Substance Abuse State Infrastructure Grants, SM 04-006 and approximately $200,000 is included to address needs of grantees in the Safe Schools/Healthy Students initiative jointly funded through the Department of Education. An additional $150,000 may be available through agreement with another federal agency to support a position for an expert in issues related to child welfare and mental health. Application budgets should include these additional dollars, a corresponding plan for the staff position and related support incorporating the expert into project activities. The maximum allowable award is $3.6 million in total costs (direct and indirect) per year for up to five years. Proposed budgets cannot exceed the allowable amount in any year of the proposed project. Annual continuations will depend on the availability of funds, grantee progress in meeting program goals and objectives, and timely submission of required data and reports.

2. Funding Instrument: Cooperative Agreement.

Role and Responsibilities of Federal Staff: It is the responsibility of the Government Project Officer (GPO) who is overseeing the cooperative agreement to appropriately discharge his/her responsibilities to monitor the overall progress of the program. The GPO's role for this cooperative agreement includes: (1) Providing technical assistance to the grantee in implementing project activities throughout the course of the project; (2) reviewing and approving each stage of project activities; and (3) providing technical monitoring to permit oversight of the project activities. The project officer may conduct site visits to monitor the development of the training and technical assistance activities and/or engage consultants to advise on programmatic issues and conduct site visits.

Role and Responsibilities of the Grantee: The grantee is expected to participate and cooperate fully with CMHS staff in the implementation and evaluation of the project. Activities include: (1) Compliance with all aspects of the terms and conditions of the cooperative agreement; (2) cooperation with CMHS staff in accepting guidance and responding to requests for data; (3) participation on policy steering committee or other work groups established to facilitate accomplishment of the project goals; (4) authorship or co-authorship of publications to make results of the project available to other programs impacting children's mental health.

III. Eligibility Information

1. Eligible Applicants are domestic public and private, nonprofit entities. For example, State, local or tribal governments; public or private universities and colleges; community- and faith-based organizations; and tribal organizations may apply. The statutory authority for this program prohibits grants to for-profit organizations. These eligibility criteria supersede the criteria specified in Section III-1 of the INF-04 PA (MOD).

2. Cost Sharing or Matching is not required.

3. Other: Applicants must also meet certain application formatting and submission requirements or the application will be screened out and will not be reviewed. These requirements are described in Section IV-2 below as well as in the INF-04 PA (MOD).

IV. Application and Submission Information

1. Address to Request Application Package: Complete application kits may be obtained from the National Mental Health Information Center at 1-800-789-2647. When requesting an application kit for this program, the applicant must specify the funding opportunity title (NTTAC) and number (SM 04-002). All information necessary to apply, including where to submit applications and application deadline instructions, are included in the application kit. The PHS 5161-1 application form is also available electronically via SAMHSA's World Wide Web Home Page: http://www.samhsa.gov (Click on “Grant Opportunities”) and the INF-04 PA (MOD) is available electronically at http://www.samhsa.gov/grants/2004/standard/Infrastructure/index.asp.

When submitting an application, be sure to type “SM 04-002/NTTAC” in Item Number 10 on the face page of the application form. Also, SAMHSA applicants are required to provide a DUNS number on the face page of the application. To obtain a DUNS Number, access the Dun and Bradstreet Web site at http://www.dunandbradstreet.com or call 1-866-705-5711.

2. Content and Form of Application Submission: Information including required documents, required application components, and application formatting requirements is available in the INF-04 PA (MOD) in Section IV-2.

Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review.

—Use the PHS 5161-1 application.

—Applications must be received by the application deadline. Applications received after this date must have a proof of mailing date from the carrier dated at least 1 week prior to the due date. Private metered postmarks are not acceptable as proof of timely mailing. Applications not received by the application deadline or not postmarked at least 1 week prior to the application deadline will not be reviewed.

—Information provided must be sufficient for review.

—Text must be legible.

• Type size in the Project Narrative cannot exceed an average of 15 characters per inch, as measured on the physical page. (Type size in charts, tables, graphs, and footnotes will not be considered in determining compliance.)

• Text in the Project Narrative cannot exceed 6 lines per vertical inch.

—Paper must be white paper and 8.5 inches by 11.0 inches in size.

—To ensure equity among applications, the amount of space allowed for the Project Narrative cannot be exceeded.

• Applications would meet this requirement by using all margins (left, right, top, bottom) of at least one inch each, and adhering to the page limit for the Project Narrative stated in the specific funding announcement.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

—The page limit for Appendices stated in the specific funding announcement cannot be exceeded. To facilitate review of your application, follow these additional guidelines. Failure to adhere to the following guidelines will not, in itself, result in your application being screened out and returned without review. However, the information provided in your application must be sufficient for review. Following these guidelines will help ensure your application is complete, and will help reviewers to consider your application.

—The 10 application components required for SAMHSA applications should be included. These are:

• Face Page (Standard Form 424, which is in PHS 5161-1)

• Abstract.

• Table of Contents.

• Budget Form (Standard Form 424A, which is in PHS 5161-1).

• Project Narrative and Supporting Documentation.

• Appendices.

• Assurances (Standard Form 424B, which is in PHS 5161-1).

• Certifications (a form in PHS 5161-1).

• Disclosure of Lobbying Activities (Standard Form LLL, which is in PHS 5161-1).

• Checklist (a form in PHS 5161-1).

—Applications should comply with the following requirements:

• Provisions relating to confidentiality, participant protection and the protection of human subjects, as indicated in the specific funding announcement.

• Budgetary limitations as indicated in Sections I, II, and IV-5 of the specific funding announcement.

• Documentation of nonprofit status as required in the PHS 5161-1.

—Pages should be typed single-spaced with one column per page.

—Pages should not have printing on both sides.

—Please use black ink, and number pages consecutively from beginning to end so that information can be located easily during review of the application. The cover page should be page 1, the abstract page should be page 2, and the table of contents page should be page 3. Appendices should be labeled and separated from the Project Narrative and budget section, and the pages should be numbered to continue the sequence.

—Send the original application and two copies to the mailing address in the funding announcement. Please do not use staples, paper clips, and fasteners. Nothing should be attached, stapled, folded, or pasted. Do not use heavy or lightweight paper, or any material that cannot be copied using automatic copying machines. Odd-sized and oversized attachments such as posters will not be copied or sent to reviewers. Do not include videotapes, audiotapes, or CD-ROMs.

3. Submission Dates and Times: Applications must be received by May 21, 2004. You will be notified by postal mail that your application has been received. Additional submission information is available in the INF-04 PA (MOD) in Section IV-3.

4. Intergovernmental Review: Applicants for this funding opportunity must comply with Executive Order 12372 (E.O.12372). E.O.12372, as implemented through Department of Health and Human Services (DHHS) regulation at 45 CFR Part 100, sets up a system for State and local review of applications for Federal financial assistance. Instructions for complying with E.O. 12372 are provided in the INF-04 PA (MOD) in Section IV-4. A current listing of State Single Points of Contact (SPOCs) is included in the application kit and is available at http://www.whitehouse.gov/omb/grants/spoc.html.

5. Funding Restrictions: Information concerning funding restrictions is available in the INF-04 PA (MOD) in Section IV-5.

V. Application Review Information

1. Evaluation Criteria: Applications will be reviewed against the Evaluation Criteria and requirements for the Project Narrative specified in the INF-04 PA (MOD). The following information describes exceptions or limitations to the INF-04 PA (MOD) and provides special requirements that pertain only to NTTAC grants. Applicants must discuss the following requirements in their applications, in addition to the requirements specified in the INF-04 PA (MOD):

1.1 In “Section A: Statement of Need'': Applicants must address the need for training and technical assistance on children's mental health in States, territories and tribal nations, including the need for training and technical assistance addressing the priority focus areas referenced in Section I. “Funding Opportunity Description''.

1.2 In “Section B: Proposed Approach'':

a. Applicants must describe plans for implementing the following required activities in a manner that addresses the needs identified in Section A : training institutes, policy academies, leadership development, efforts to address cultural competence, and other training and technical assistance activities.

b. Applicants must provide evidence that the proposed activities meet the infrastructure needs and that the proposed infrastructure development strategy will meet project goals and objectives.

c. Applicants must describe plans for integrating the priority focus areas into the planned activities for the project.

d. Applicants are not required to provide a plan to secure resources to sustain the proposed infrastructure enhancements when Federal funding ends.

1.3 Additional Information: Applicants should refer to the Notice of Funding Availability for Child and Adolescent Mental Health and Substance Abuse State Infrastructure Grants, SM 04-006, for information on requirements for providing technical assistance for state capacity building to programs funded under SM 04-006, available at http://www.samhsa.gov.

1.4 Performance Measurement: All SAMHSA grantees are required to collect and report certain data, so that SAMHSA can meet its obligations under the Government Performance and Results Act (GPRA). Grantees of the NTTAC program will be required to report performance in several areas. Applicants must document their ability to collect and report the required data in “Section D: Evaluation and Data” of their applications, including the following indicators:

• Increase outreach to prospective technical assistance recipients, including community-based and faith-based organizations.

• Increase the number of technical assistance recipients that demonstrate inclusion of family members and youth in planning, policy, and service delivery decisions.

• Increase the use of evidence-based models/interventions by technical assistance recipients.

• Increase the number of technical assistance recipients using a system-of-care approach. SAMHSA will work with grantees to finalize a standard methodology related to these indicators shortly after award.

2. Review and Selection Process: Information about the review and selection process is available in the INF-04 PA (MOD) in Section V-2.

VI. Award Administration Information

Award administration information, including award notices, administrative and national policy requirements, and reporting requirements are available in the INF-04 PA (MOD) in Section VI. SAMHSA's standard terms and conditions are available at http://www.samhsa.gov/grants/2004/useful_info.asp.

VII. Agency Contact for Additional Information

For questions concerning program issues, contact: Michele Herman, SAMHSA/CMHS, Child, Adolescent and Family Branch, 5600 Fishers Lane, Room 11C-16; Rockville, MD 20857; 301-443-1333; E-mail: mherman@samhsa.gov. For questions on grants management issues, contact: Gwendolyn Simpson, SAMHSA/Division of Grants Management, 5600 Fishers Lane, Room 13-103; Rockville, MD 20857; 301 443-4456; E-mail: gsimpson@samhsa.gov.

Dated: March 17, 2004.
Margaret M. Gilliam,
Acting Director, Office of Policy Planning and Budget, Substance Abuse and Mental Health Services Administration.

[FR Doc. 04-6372 Filed 3-22-04; 8:45 am]

BILLING CODE 4162-20-P